NATIONAL FOUNDATION ON THE ARTS AND THE HUMANITIES

National Endowment for the Arts

National Council on the Arts Meeting

AGENCY: National Endowment for the Arts.

ACTION: Notice of meeting.

SUMMARY: Pursuant to section 10(a)(2) of the Federal Advisory Committee Act, as amended, notice is hereby given that a meeting of the National Council on the Arts will be convened by videoconference to discuss nominations for the 2024 National Medal of Arts. This meeting will be closed to the public for reasons stated below.

DATES: This meeting will take place on December 19, 2024, from approximately 1 p.m. to 3 p.m. eastern time.

ADDRESSES: National Endowment for the Arts, Constitution Center, 400 7th St. SW, Washington, DC 20506.

FOR FURTHER INFORMATION CONTACT: Liz Auclair, Office of Public Affairs, National Endowment for the Arts, Washington, DC 20506, at 202/682-5744.

SUPPLEMENTARY INFORMATION: The National Council on the Arts will deliberate in closed session on nominations for the 2024 National Medal of Arts. This meeting will be closed to the public pursuant to subsection (c)(4) of the Government in the Sunshine Act, 5 U.S.C. 552b, and in accordance with the March 11, 2022 determination of the Chair. Discussions concerning purely personal information about individuals, such as personal biographical and salary data or medical information, may be conducted by the Council in closed session in accordance with subsection (c)(6) of 5 U.S.C. 552b.

Dated: November 7, 2024.
David Travis,
Specialist, National Endowment for the Arts.

[FR Doc. 2024-26271 Filed 11-12-24; 8:45 am]

BILLING CODE 7537-01-P